DEPARTMENT OF HEALTH AND HUMAN SERVICES

National Institutes of Health

National Institute of General Medical Sciences; Amended Notice of Meeting

Notice is hereby given of a change in the meeting of the National Institute of General Medical Sciences Special Emphasis Panel, March 5, 2018, 8:00 a.m. to March 6, 2018, 5:00 p.m., Residence Inn Bethesda Downtown, 7335 Wisconsin Avenue, Bethesda, MD 20814, which was published in the Federal Register on January 22, 2018, 83 FR 3004.

The meeting notice is amended to change the title from Review of MIRA Applications to ESI MIRA Review. The meeting is closed to the public.

Dated: February 13, 2018.
Melanie J. Pantoja,
Program Analyst, Office of Federal Advisory Committee Policy.

[FR Doc. 2018-03325 Filed 2-16-18; 8:45 am]

BILLING CODE 4140-01-P